DEPARTMENT OF ENERGY

Federal Energy Regulatory Commission

[Docket No. RM02-16-000]

Notice of Public Forum and Agenda

October 21, 2002.

AGENCY: Federal Energy Regulatory Commission.

ACTION: Notice of public forum and agenda.

SUMMARY: The Federal Energy Regulatory Commission will host a public forum to discuss issues and proposals associated with establishing a new licensing process. This one-day forum will be held from 9:00 a.m. until 4:00 p.m. The FERC Commissioners will attend, and representatives from federal and state agencies, tribes, non-governmental organizations, and the industry have been invited to participate. All interested persons are invited to attend.

DATES: November 7, 2002.

ADDRESSES: Federal Energy Regulatory Commission, 888 First Street, NE., Washington, DC 20426/

FOR FURTHER INFORMATION CONTACT: Timothy Welch, 888 First Street, NE., Washington, DC 20426, (202) 502-8760.

Hydroelectric Licensing Regulations Under the Federal Power Act; Notice of Public Forum and Agenda

[Docket No. RM02-16-000]

October 18, 2002.

As announced in the Notice Requesting Comments and Establishing Public Forums and Procedures and Schedule, issued on September 12, 2002, the Federal Energy Regulatory Commission (Commission) will host a public forum on November 7, 2002, to discuss issues and proposals associated with establishing a new licensing process. This one-day forum will be held in the Commission meeting room, 888 First Street, NE, Washington, DC, from 9:00 a.m. to 4:00 p.m.

The FERC Commissioners will attend, and representatives from federal and state agencies, tribes, non-government organizations, and the industry have been invited to participate. All interested persons are invited to attend. The goal is to identify the need for a new licensing process, key issues a new process should address, as well as how a new licensing process can better accommodate all interested parties' needs. Time will be allotted for audience comment and response to the panelists. We look forward to an informative discussion of the issues associated with development of a new licensing process.

The Forum is not intended to address issues pending in individually docketed hydropower cases before the Commission. Therefore, all participants are requested to address the agenda topics and avoid discussing the merits of individual proceedings. The agenda may be viewed on the Commission's Web site: www.ferc.gov/hydro/docs/hydro.

Requirements for Paper and Electronic Filings

Comments or other documents related to this forum may be filed in paper format or electronically. Those filing electronically do not need to make a paper filing.

For paper filings, an original and 8 copies of the comments should be filed with the Secretary, Federal Energy Regulatory Commission, 888 First Street, NE, Washington, DC 20426. Paper filings should, at the top of the first page, refer to Docket No. RM02-16-000. The deadline to file comments is December 6, 2002.

Comments may be filed electronically via the Internet in lieu of paper. The Commission strongly encourages electronic filings. Documents filed electronically via the Internet must be prepared in WordPerfect, MS Word, Portable Document Format, or ASCII format. To file the document, access the Commission's Web site at http://www.ferc.gov, click on “e-Filing” and then follow the instructions on the screen. First-time users will have to establish a user name and password. The Commission will send an automatic acknowledgment to the sender's e-mail address upon receipt of comments. User assistance for electronic filing is available at 202-502-8258 or by e-mail to efiling@ferc.gov. Comments should not be submitted to the E-mail address.

All comments will be placed in the Commission's public files and will be available for inspection in the Commission's Public Reference Room at 888 First Street, NE, Room 2A, Washington, DC 20426, during regular business hours. Additionally, all comments may be viewed on the Commission's Web site at http://www.ferc.gov using the “FERRIS” link. For assistance, call 202-502-8371, or toll free 1-866-208-3676, or for TTY 202-502-8659, or by e-mail to FERCONLINESUPPORT@ferc.gov.

Opportunities for Listening and Viewing the Workshop Offsite and for Obtaining a Transcript

The Capitol Connection offers the opportunity for remote listening and viewing of theforum, which is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

The forumwill be transcribed. Those interested in obtaining a copy of the transcript immediately for a fee should contact Ace-Federal Reporters, Inc. at 202-347-3700, or 1-800-336-6646. Two weeks after the forum, the transcript will be available for free on the Commission's FERRIS system.

Anyone without access to the Commission's Web site or who have questions about the forum should contact Tim Welch at 202-502-8760, or e-mail timothy.welch@ferc.gov.

Linwood A. Watson, Jr.,
Deputy Secretary.

[FR Doc. 02-27272 Filed 10-24-02; 8:45 am]

BILLING CODE 6717-01-P